ENVIRONMENTAL PROTECTION AGENCY

40 CFR Parts 52, 60 and 61

[FRL-8973-6]

Change of Address for Region 4 State and Local Agencies; Technical Correction

AGENCY: Environmental Protection Agency (EPA).

ACTION: Final rule; technical amendment.

SUMMARY: EPA is correcting the addresses for EPA Region 4 State and local agencies in EPA regulations. The jurisdiction of EPA Region 4 includes the States of Alabama, Florida, Georgia, Kentucky, Mississippi, North Carolina, South Carolina and Tennessee. Certain EPA air pollution control regulations requiring submittal of notifications, reports and other documents to the EPA Regional office, must also be submitted to the appropriate authorized State or local agency. This technical amendment updates and corrects the addresses for submitting such information to the EPA Region 4 State and local agency offices.

DATES: Effective Date: This action is effective October 27, 2009.

FOR FURTHER INFORMATION CONTACT: Deanne Grant, Regulatory Development Section, Air Planning Branch, Air, Pesticides and Toxics Management Division, Region 4, U.S. Environmental Protection Agency, 61 Forsyth Street, SW., Atlanta, Georgia 30303-8960. The telephone number is (404) 562-9291. Ms. Grant can also be reached via electronic mail at grant.deanne@epa.gov.

SUPPLEMENTARY INFORMATION: EPA is correcting the addresses for EPA Region 4 State and local agencies in EPA regulations found at 40 CFR parts 52, 60 and 61. Certain EPA air pollution control regulations requiring submittal of notifications, reports and other documents to the EPA regional office, must also be submitted to the appropriate authorized State and local agency. This technical amendment updates and corrects the address for submitting such information to the EPA Region 4 State and local agency offices.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by updating citations.

IV. Statutory and Executive Order Reviews

Under the CAA, the Administrator is required to approve a SIP submission that complies with the provisions of the Act and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L.104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the State, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 28, 2009. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Parts 52, 60 and 61

Environmental protection, Air pollution control, Incorporated by reference, Intergovernmental relations, Reporting and recordkeeping requirements.

Dated: October 15, 2009.
Beverly H. Banister,
Acting Regional Administrator, Region 4.

40 CFR parts 52, 60 and 61 are amended as follows:

PART 52—[AMENDED]

1. The authority citation for part 52 continues to read as follows:

Authority: 42.U.S.C. 7401 et seq.

Subpart (B)—Alabama

2. Section 52.60 is amended by revising paragraph (a) to read as follows:

§ 52.60 Significant deterioration of air quality.

(a) All applications and other information required pursuant to § 52.21 from sources located in the State of Alabama shall be submitted to the State agency, Alabama Department of Environmental Management, P.O. Box 301463, Montgomery, Alabama 36130-1463, rather than to EPA's Region 4 office.

* * * * *

Subpart (K)—Florida

3. Section 52.530 is amended by revising paragraph (c) to read as follows:

§ 52.530 Significant deterioration of air quality.

* * * * *

(c) All applications and other information required pursuant to § 52.21 of this part from sources located in the State of Florida shall be submitted to the State agency, Florida Department of Environmental Protection, Division of Air Resources Management, 2600 Blair Stone Road, MS 5500, Tallahassee, Florida 32399-2400, rather than to EPA's Region 4 office.

* * * * *

Subpart (L)—Georgia

4. Section 52.581 is amended by revising paragraph (a) to read as follows:

§ 52.581 Significant deterioration of air quality.

(a) All applications and other information required pursuant to § 52.21 of this part from sources located in the State of Georgia shall be submitted to the State agency, Georgia Department of Natural Resources, Environmental Protection Division, 2 Martin Luther King Jr. Drive, SE., Suite 1152 East Floyd Tower, Atlanta, Georgia 30334-9000, rather than to EPA's Region 4 office.

* * * * *

Subpart (S)—Kentucky

5. Section 52.931 is amended by adding paragraph (d) to read as follows:

§ 52.931 Significant deterioration of air quality.

* * * * *

(d) All applications and other information required pursuant to § 52.21 of this part from sources located in the Commonwealth of Kentucky shall be submitted to the State agency, Commonwealth of Kentucky, Energy and Environment Cabinet, Department of Environmental Protection, Division for Air Quality, 200 Fair Oaks Lane, 1st Floor, Frankfort, Kentucky 40610-1403 or local agency, Louisville Metro Air Pollution Control District, 850 Barret Avenue, Louisville, Kentucky 40204, rather than to EPA's Region 4 office.

Subpart (Z)—Mississippi

6. Section 52.1280 is amended by revising paragraph (a) to read as follows:

§ 52.1280 Significant deterioration of air quality.

(a) All applications and other information required pursuant to § 52.21 of this part from sources located or to be located in the State of Mississippi shall be submitted to the State agency, Mississippi Department of Environmental Quality, Office of Pollution Control, Air Division, 515 East Amite Street, Jackson, Mississippi 39201, rather than to EPA's Region 4 office.

Subpart (II)—North Carolina

7. Section 52.1778 is amended by revising paragraph (c) to read as follows:

§ 52.1778 Significant deterioration of air quality.

* * * * *

(c) All applications and other information required pursuant to § 52.21 of this part from sources located or to be located in the State of North Carolina shall be submitted to the State agency, North Carolina Department of Environment and Natural Resources, Division of Air Quality, 1641 Mail Service Center, Raleigh, North Carolina 27699-1641 or local agencies, Attention: Air Quality Section or Forsyth County Environmental Affairs, 537 North Spruce Street, Winston-Salem, North Carolina 27101; Mecklenburg County Air Quality, 700 N. Tryon St., Suite 205, Charlotte, North Carolina 28202-2236; Western North Carolina Regional Air Quality Agency, 49 Mount Carmel Road, Asheville, North Carolina 28806, rather than to EPA's Region 4 office.

Subpart (PP)—South Carolina

8. Section 52.2131 is amended by revising paragraph (c) to read as follows:

§ 52.2131 Significant deterioration of air quality.

* * * * *

(c) All applications and other information required pursuant to § 52.21 from sources located in the State of South Carolina shall be submitted to the State agency, South Carolina Department of Health and Environmental Control, 2600 Bull Street, Columbia, South Carolina 29201, rather than to EPA's Region 4 office.

Subpart (RR)—Tennessee

9. Section 52.2233 is amended by revising paragraph (c)(1) to read as follows:

§ 52.2233 Significant deterioration of air quality.

* * * * *

(c)(1) All applications and other information required pursuant to § 52.21 of this part from sources located or to be located in the State of Tennessee shall be submitted to the State agency, Tennessee Department of Environment and Conservation, Division of Air Pollution Control, 401 Church Street, 9th Floor, L&C Annex, Nashville, Tennessee 37243-1531, or local agencies, Knox County Air Quality Management-Department of Public Health, 140 Dameron Avenue, Knoxville, Tennessee 37917; Air Pollution Control Bureau, Metropolitan Health Department, 311 23rd Avenue North, Nashville, Tennessee 37203; Chattanooga-Hamilton County Air Pollution Control Bureau, 6125 Preservation Drive, Chattanooga, Tennessee 37416; Memphis-Shelby County Health Department-Air Pollution Control Program, 814 Jefferson Avenue, Memphis, Tennessee 38105, rather than to the EPA's Region 4 office.

PART 60—[AMENDED]

10. The authority citation for part 60 continues to read as follows:

Authority: 42 U.S.C. 7401 et seq.

Subpart (A)—General Provisions

11. Section 60.4 is amended by revising paragraphs (b)(B), (K), (L), (S), (Z), (II), (PP), and (RR) to read as follows:

§ 60.4 Address.

* * * * *

(b) * * *

(B) State of Alabama: Alabama Department of Environmental Management, P.O. Box 301463, Montgomery, Alabama 36130-1463.

* * * * *

(K) State of Florida: Florida Department of Environmental Protection, Division of Air Resources Management, 2600 Blair Stone Road, MS 5500, Tallahassee, Florida 32399-2400.

(L) State of Georgia: Georgia Department of Natural Resources, Environmental Protection Division, 2 Martin Luther King Jr. Drive, SE., Suite 1152 East Floyd Tower, Atlanta, Georgia 30334-9000.

* * * * *

(S) Commonwealth of Kentucky: Commonwealth of Kentucky, Energy and Environment Cabinet, Department of Environmental Protection, Division for Air Quality, 200 Fair Oaks Lane, 1st Floor, Frankfort, Kentucky 40610-1403.

Louisville Metro Air Pollution Control District, 850 Barret Avenue, Louisville, Kentucky 40204.

* * * * *

(Z) State of Mississippi: Mississippi Department of Environmental Quality, Office of Pollution Control, Air Division, 515 East Amite Street, Jackson, Mississippi 39201.

* * * * *

(II) State of North Carolina: North Carolina Department of Environment and Natural Resources, Division of Air Quality, 1641 Mail Service Center, Raleigh, North Carolina 27699-1641.

Forsyth County Environmental Affairs, 537 North Spruce Street, Winston-Salem, North Carolina 27101.

Mecklenburg County Air Quality, 700 N. Tryon St., Suite 205, Charlotte, North Carolina 28202-2236.

Western North Carolina Regional Air Quality Agency, 49 Mount Carmel Road, Asheville, North Carolina 28806.

* * * * *

(PP) State of South Carolina: South Carolina Department of Health and Environmental Control, 2600 Bull Street, Columbia, South Carolina 29201.

* * * * *

(RR) State of Tennessee: Tennessee Department of Environment and Conservation, Division of Air Pollution Control, 401 Church Street, 9th Floor, L&C Annex, Nashville, Tennessee 37243-1531.

Knox County Air Quality Management—Department of Public Health, 140 Dameron Avenue, Knoxville, TN 37917.

Air Pollution Control Bureau, Metropolitan Health Department, 311 23rd Avenue North, Nashville, TN 37203.

Chattanooga-Hamilton County Air Pollution Control Bureau, 6125 Preservation Drive, Chattanooga, TN 37416.

Memphis-Shelby County Health Department—Air Pollution Control Program, 814 Jefferson Avenue, Memphis, TN 38105.

* * * * *

PART 61—[AMENDED]

12. The authority citation for part 61 continues to read as follows:

Authority: 42 U.S.C. 7401 et seq.

Subpart (A)—General Provisions

13. Section 61.04 is amended by revising paragraphs (b)(B), (K), (L), (S), (Z), (II), (PP), and (RR) to read as follows:

§ 61.04 Address.

* * * * *

(b) * * *

(B) State of Alabama: Alabama Department of Environmental Management, P.O. Box 301463, Montgomery, Alabama 36130-1463.

* * * * *

(K) State of Florida: Florida Department of Environmental Protection, Division of Air Resources Management, 2600 Blair Stone Road, MS 5500, Tallahassee, Florida 32399-2400.

(L) State of Georgia: Georgia Department of Natural Resources, Environmental Protection Division, 2 Martin Luther King Jr. Drive, SE., Suite 1152 East Floyd Tower, Atlanta, Georgia 30334-9000.

* * * * *

(S) Commonwealth of Kentucky: Commonwealth of Kentucky, Energy and Environment Cabinet, Department of Environmental Protection, Division for Air Quality, 200 Fair Oaks Lane, 1st Floor, Frankfort, Kentucky 40610-1403.

Louisville Metro Air Pollution Control District, 850 Barret Avenue, Louisville, Kentucky 40204.

* * * * *

(Z) State of Mississippi: Mississippi Department of Environmental Quality, Office of Pollution Control, Air Division, 515 East Amite Street, Jackson, Mississippi 39201.

* * * * *

(II) State of North Carolina: North Carolina Department of Environment and Natural Resources, Division of Air Quality, 1641 Mail Service Center, Raleigh, North Carolina 27699-1641.

Forsyth County Environmental Affairs, 537 North Spruce Street, Winston-Salem, North Carolina 27101.

Mecklenburg County Air Quality, 700 N. Tryon St., Suite 205, Charlotte, North Carolina 28202-2236.

Western North Carolina Regional Air Quality Agency, 49 Mount Carmel Road, Asheville, North Carolina 28806.

* * * * *

(PP) State of South Carolina: South Carolina Department of Health and Environmental Control, 2600 Bull St., Columbia, South Carolina 29201.

* * * * *

(RR) State of Tennessee: Tennessee Department of Environment and Conservation, Division of Air Pollution Control, 401 Church Street, 9th Floor, L&C Annex, Nashville, Tennessee 37243-1531.

Knox County Air Quality Management—Department of Public Health, 140 Dameron Avenue, Knoxville, Tennessee 37917.

Air Pollution Control Bureau, Metropolitan Health Department, 311 23rd Avenue North, Nashville, Tennessee 37203.

Chattanooga-Hamilton County Air Pollution Control Bureau, 6125 Preservation Drive, Chattanooga, Tennessee 37416.

Memphis-Shelby County Health Department—Air Pollution Control Program, 814 Jefferson Avenue, Memphis, Tennessee 38105.

* * * * *

[FR Doc. E9-25728 Filed 10-26-09; 8:45 am]

BILLING CODE 6560-50-P